ENVIRONMENTAL PROTECTION AGENCY

[FRL-6943-1]

Agency Information Collection Activities: Proposed Collection; Comment Request; Information Collection Request for National Pollutant Discharge Elimination System (NPDES) and Sewage Sludge Monitoring Reports; OMB Control No. 2040-0004; EPA ICR No. 0229.15)

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Information Collection Request for National Pollutant Discharge Elimination System (NPDES) and Sewage Sludge Monitoring Reports; OMB Control No. 2040-0004; EPA ICR No. 0229.15); currently expiring September 30, 2001. Before submitting the ICR to OMB for review and approval, EPA is soliciting comments on specific aspects of the proposed information collection as described below.

DATES: Comments must be submitted on or before April 9, 2001.

ADDRESSES: A copy of the proposed ICR will be available to interested persons without charge at the follow address: Betty West, USEPA, Office of Wastewater Management, Water Permits Division, 1200 Pennsylvania Avenue, NW, ICC Building, Room 7421-H, (Mail Code 4203M), Washington, DC 20460; email address: west.betty@epa.gov.

FOR FURTHER INFORMATION CONTACT: Betty West, Telephone: (202)564-8486, Fax (202)564-6392, e-mail address: west.betty@epa.gov.

SUPPLEMENTARY INFORMATION: Affected entities: Entities potentially affected by this action are those which are covered by NPDES permits which include monitoring and reporting requirements and for sewage sludge record keeping and reporting requirements, treatment works treating domestic sewage and domestic septage haulers.

Title: Information Collection Request for National Pollutant Discharge Elimination System (NPDES) and Sewage Sludge Monitoring Reports; (OMB Control No. 2040-0004; EPA ICR No. 0229.15) expiring 09/30/01.

Abstract: This ICR estimates the current monitoring, recordkeeping and costs associated with submitting and reviewing Discharge Monitoring Reports (DMRs), sewage sludge monitoring reports, and other monitoring reports under the Environmental Protection Agency's (EPA) NPDES program. The NPDES program regulations, codified at 40 CFR parts 122 through 125, require permitted municipal and non-municipal point source discharges to collect, analyze, and submit data on their wastewater discharges. Under these regulations, the permittee is required to collect and analyze wastewater samples or have the analysis performed at an outside laboratory and report the results to the permitting authority (EPA or an authorized NPDES State) using DMRs, a preprinted form used for reporting pollutant discharge information. Sample monitoring, analysis, and reporting frequencies vary by permit, but must be performed at least annually for all permitted discharges except for certain storm water discharges. Upon renewal of this ICR, the permitting authority will continue to require NPDES and sewage sludge facilities to report pollutant discharge monitoring data. The permitting authority will use the data from these forms to assess permittee compliance, modify/add new permit requirements, and revise effluent limits. The monitoring data required of NPDES and sewage sludge facilities represents the minimum information necessary to achieve the Agency's goals and satisfy regulatory standards.

Due to the re-estimation of burden for this collection, the burden hours associated with this new ICR have increased slightly from the hours of the previous ICR. This increase is due to more accurate estimates of the implementation of the Agency's monitoring frequency reduction guidance. The change in burden is reflected in higher operation and maintenance costs, due to the cost associated with using the services of outside laboratories. An agency may not conduct or sponsor, and a person is not required to respond to, a collection of information unless it displays a currently valid OMB control number. The OMB control numbers for EPA's regulations are listed in 40 CFR part 9 and 48 CFR chapter 15.

EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates that 83,415 NPDES permittees and 24,346 sludge permittees will perform sample collection, pollutant analysis, reporting and recordkeeping as part of their NPDES permit requirements to collect and report discharge monitoring data to permit authorities. These permittees are expected to provide 559,710 responses to State and Federal permit authorities. Nationally, permittees will spend 3,837,505 hours per year collecting samples of their wastewater or sludge; 2,842,365 hours will be spent by permittees with in-house laboratories for analyzing the samples collected; and permittees will spend 1,197,510 hours for recording and reporting the sampling and analysis information on DMRs. This amounts to a total of 7,889,707 burden hours annually. Permittees that send their samples to outside laboratories will incur $315,006,531 in sample analysis costs. Each permittee will spend an average of 13.2 hours per year to collect, analyze and report discharge monitoring data. EPA also estimates that sludge facilities will spend 12,327 hours keeping monitoring records (the recordkeeping burden for the remaining NPDES permittees is reported in the Compliance Assessment ICR, OMB Control No. 2040-0110).

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: February 2, 2001.
Michael B. Cook,
Director, Office of Wastewater Management.

[FR Doc. 01-3281 Filed 2-7-01; 8:45 am]

BILLING CODE 6560-50-P